NUCLEAR REGULATORY COMMISSION

10 CFR Part 110

RIN 3150-AH21

General License for Import of Major Nuclear Reactor Components

AGENCY: Nuclear Regulatory Commission.

ACTION: Direct final rule; confirmation of effective date.

SUMMARY: The Nuclear Regulatory Commission (NRC) is confirming the effective date of August 11, 2003, for the direct final rule that appeared in the Federal Register of May 28, 2003 (68 FR 31587). This direct final rule amended the NRC's regulations to issue a general license for the import of major components of utilization facilities for end-use at NRC-licensed reactors. This document confirms the effective date of the direct final rule.

DATES: The effective date of August 11, 2003, is confirmed for this direct final rule.

ADDRESSES: Documents related to this rulemaking, including comments received, may be examined at the NRC Public Document Room, Room O-1F23, 11555 Rockville Pike, Rockville, MD. These same documents may also be viewed and downloaded electronically via the rulemaking Web site (http://ruleforum.llnl.gov). For information about the interactive rulemaking Web site, contact Ms. Carol Gallagher (301) 415-5905; email: CAG@nrc.gov.

FOR FURTHER INFORMATION CONTACT: Grace H. Kim, Senior Attorney, Office of the General Counsel, U.S. Nuclear Regulatory Commission, Washington, DC 20555-0001, telephone (301) 415-3605, email GHK@nrc.gov.

SUPPLEMENTARY INFORMATION: On May 28, 2003 (68 FR 31587), the NRC published in the Federal Register a direct final rule amending its regulations in 10 CFR Part 110 to issue a general license for the import of major components of utilization facilities for end-use at NRC-licensed reactors. The amendment facilitates imports of major components of domestic nuclear reactors in furtherance of protection of public health and safety and reduces unnecessary regulatory burdens related to the maintenance of NRC-licensed reactors. In the direct final rule, NRC stated that if no significant adverse comments were received, the direct final rule would become final on the date noted above. The NRC did not receive any comments that warranted withdrawal of the direct final rule. Therefore, this rule will become effective as scheduled.

Dated at Rockville, Maryland, this 25th day of July, 2003.
For the Nuclear Regulatory Commission.
Betty K. Golden,
Acting Chief, Rules and Directives Branch, Division of Administrative Services, Office of Administration.

[FR Doc. 03-19489 Filed 7-30-03; 8:45 am]

BILLING CODE 7590-01-P